NATIONAL ARCHIVES AND RECORDS ADMINISTRATION

[NARA-26-0067; NARA-2026-009]

Records Schedules; Notice of Withdrawal

AGENCY: National Archives and Records Administration (NARA).

ACTION: Notice; withdrawal.

SUMMARY: When the records schedule notice was published on February 26, 2026, at 91 FR 9658, the link to the URL for the regulations.gov docket for the schedules was incorrect. Due to this clerical error, the notice will be withdrawn and the schedules will be reposted as soon as possible in a new notice, allowing the full 45-day comment period for the public to submit comments.

DATES: The document published at 91 FR 9658 on February 26, 2026 is withdrawn as of March 4, 2026.

FOR FURTHER INFORMATION CONTACT: Matthew Eidson, Records Management Operations, by email at matthew.eidson@nara.gov or at 301-837-3109. For information about records schedules, contact Records Management Operations by email at request.schedule@nara.gov or by phone at 301-837-3109.

SUPPLEMENTARY INFORMATION:

Public Comment Procedures

We publish notice of records schedules in which agencies propose to dispose of records they no longer need to conduct agency business. We invite public comments on these records schedules, as required by 44 U.S.C. 3303a(a), and list the schedules at the end of this notice by agency and subdivision requesting disposition authority.

When the records schedule notice was published on February 26, 2026, at 91 FR 9658, the link to the URL for the regulations.gov docket for the schedules was incorrect. Due to this clerical error, the notice will be withdrawn and the schedules will be reposted as soon as possible in a new notice, allowing the full 45-day comment period for the public to submit comments.

Schedules Withdrawn

1. Department of Justice, Private Trustee Oversight Records (DAA-0060-2025-0002).

2. Administration for Children and Families, Office of Child Support Enforcement (OCSE) Debtor File and Related Systems (DAA-0292-2026-0001).

3. Drug Enforcement Administration, Polygraph Examiner's Records (DAA-0170-2025-0006).

4. United States Capitol Police, Policy Records (DAA-0603-2024-0003).

5. Veterans Health Administration, Non-Health Professional Trainees Digital Recordings (DAA-0015-2025-0002).

William P. Fischer,
Acting Chief Records Officer for the U.S. Government.

[FR Doc. 2026-04324 Filed 3-3-26; 8:45 am]

BILLING CODE 7515-01-P